DEPARTMENT OF JUSTICE

Notice of Lodging of Consent Decree, Under the Comprehensive Environmental Response, Compensation, and Liability Act

Notice is hereby given that on October 6, 2004, a proposed Consent Decree in United States and the State of Colorado v. Asarco, Inc., an action for injunctive relief and the reimbursement of response costs pursuant to the Comprehensive Environmental Response, Compensation, and Liability Act (“CERCLA”), 42 U.S.C. 9601 et seq., was lodged with the United States District Court for the District of Colorado, Civil Action No. 04-RB-2070 (CBS).

In this action, the United States and the State of Colorado sought injunctive relief to require defendant to perform certain remedial actions at the Vasquez Boulevard/Interstate 70 Superfund Site, located in Denver, Colorado, and to reimburse the United States and the State of Colorado for response costs incurred at the Site. Pursuant to the proposed Consent Decree, Asarco will remove and dispose of contaminated soils from 100 residential properties within the Site, and reimburse the United States and the State of Colorado for future response costs incurred at the Site.

The Department of Justice will receive for a period of thirty (30) days from the date of this publication comments relating to the Consent Decree. Comments should be addressed to the Assistant Attorney General, Environmental and Natural Resources Division, PO Box 7611, U.S. Department of Justice, Washington, DC 20044-7611, and should refer to United States and the State of Colorado v. Asarco, Inc., D.J. Ref. DJ# 90-11-3-138/7.

The Consent Decree may be examined at U.S. EPA Region 8, 999 18th Street, Suite 500, Denver, Colorado, 80202. During the public comment period, the Consent Decree may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj. gov), fax no. (202) 514-0097, phone confirmation number (202) 514-1547. In requesting a copy from the Consent Decree Library, please enclose a check made payable to the United States Treasury in the amount of $10.25 for the Consent Decree only or $109.75 for the Consent Decree plus Appendices (25 cents per page reproduction cost).

Robert Brook,
Assistant Chief, Environmental Enforcement Section, Environmental and Natural Resources Division, United States Department of Justice.

[FR Doc. 04-23498 Filed 10-20-04; 8:45 am]

BILLING CODE 4410-15-M